NATIONAL AERONAUTICS AND SPACE ADMINISTRATION

[Notice (09-105)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: December 11, 2009.

FOR FURTHER INFORMATION CONTACT: Kaprice L. Harris, Attorney Advisor, Glenn Research Center at Lewis Field, Code 500-118, Cleveland, OH 44135; telephone (216) 433-5754; fax (216) 433-6790.

NASA Case No.: LEW-17915-1: Secure Optical Communications Using Quantum Two-Photon Transparency Modulation Spectroscopy;

NASA Case No. LEW-18340-1: Offset Compound Gear Inline Two-Speed Drive;

NASA Case No. LEW-18356-1: Device for Measuring the Thermal Conductivity of Small, Highly Insulation Materials;

NASA Case No. LEW-18373-1: A Radio Frequency Tank Eigenmode Sensor for Propellant Quantity Gauging;

NASA Case No. LEW-18432-1: Addendum of Self-Aligned Ion Implant to Design and Processing of SiC High Temperature Transistors for Durable Operation Above 400 C;

NASA Case No. LEW-18461-1: Method and Circuit for In-Situ Health Monitoring of Solar Cells in Space;

NASA Case No. LEW-18486-1: Polyimide Aerogels with three Dimensional Cross-Linked Structure.

Dated: December 4, 2009.
Richard W. Sherman,
Deputy General Counsel.

[FR Doc. E9-29519 Filed 12-10-09; 8:45 am]

BILLING CODE P